DEPARTMENT OF EDUCATION

34 CFR Chapter III

[Docket ID ED-2019-OSERS-0044]

Final Waiver and Extension of the Project Period for a Grant that Provides Rehabilitation Short-Term Training to the Client Assistance Program (CAP)

AGENCY: Office of Special Education and Rehabilitative Services (OSERS), Department of Education.

ACTION: Final waiver and extension of project period.

SUMMARY: The U.S. Department of Education (Department) waives the requirements in the Education Department General Administrative Regulations that generally prohibit project periods exceeding five years and project period extensions involving the obligation of additional Federal funds. The waiver and extension enable the Rehabilitation Short-Term Training-CAP under Catalog of Federal Domestic Assistance (CFDA) number 84.246K to receive funding for an additional performance period of one year, not to exceed September 30, 2021.

DATES: The waiver and extension of the project period is effective September 16, 2020.

FOR FURTHER INFORMATION CONTACT: Felipe Lulli, U.S. Department of Education, 400 Maryland Avenue SW, Room 5101, Potomac Center Plaza, Washington, DC 20202-2800. Telephone: 202-245-7425. Email: felipe.lulli@ed.gov.

If you use a telecommunications device for the deaf (TDD) or a text telephone (TTY), call the Federal Relay Service (FRS), toll free, at 1-800-877-8339.

SUPPLEMENTARY INFORMATION:

Background

In September 2015, the Rehabilitation Services Administration (RSA) awarded a 60-month grant to the National Disability Rights Network (NDRN) under the Rehabilitation Short-Term Training Program, authorized under section 302 of the Rehabilitation Act of 1973, as amended (Rehabilitation Act) (29 U.S.C. 772). Under the grant, NDRN provides training and technical assistance to increase the capacity of CAP professionals to fulfill their responsibilities under section 112 of the Rehabilitation Act to inform, advise, and advocate for individuals with disabilities and facilitate their access to services and programs available under the Rehabilitation Act, as amended by the Workforce Innovation and Opportunity Act (WIOA) (29 U.S.C. 3101 et seq.). The performance period for that grant ends on September 30, 2020.

On April 27, 2020, the Department published in the Federal Register (85 FR 23270) a document proposing an extension of the Rehabilitation Short-Term Training-CAP performance period for an additional budget period, not to exceed September 30, 2021; a waiver of the requirements in 34 CFR 75.250, which prohibit project periods exceeding five years; and a waiver of the requirements in 34 CFR 75.261(a) and (c)(2), which allow the extension of a project period only if the extension does not involve the obligation of additional Federal funds.

We are extending the Rehabilitation Short-Term Training-CAP for an additional year to assess and enhance the Department's CAP training and technical assistance approaches in light of (a) the expanded quality employment opportunities for individuals with disabilities promoted by WIOA; (b) promising employment initiatives advanced by RSA's Vocational Rehabilitation Technical Assistance Centers, consistent with WIOA; and (c) new training delivery platforms and methodologies that could be applied to this CAP training program, including the training that will be developed under the Innovative Rehabilitation Training program, CFDA number 84.263D. In short, the waiver and extension will allow the current Rehabilitation Short-Term Training-CAP grantee to continue providing critical training and technical assistance to CAP personnel, while the Innovative Rehabilitation Training program grantee designs and scales up a new, innovative training program that, consistent with WIOA, maximizes the capacity of CAP personnel to inform, advise, and advocate for individuals with disabilities and facilitate their access to expanded quality employment opportunities in their States.

Public Comment: In response to our invitation in the notification of proposed waiver and extension of the project periods, five parties submitted responsive comments. An analysis of the comments follows.

Comment: All commenters expressed support for the Rehabilitation Short-Term Training-CAP extension, including support for the Department's stated reason for doing so. None of the commenters recommended changes or provided substantive comments regarding the proposed extension and waiver itself.

Discussion: We appreciate commenters' support for this action, which we believe will allow the Department to more effectively support CAP personnel.

Changes: None.

Final Waiver and Extension:

The Department is extending the Rehabilitation Short-Term Training-CAP for an additional budget period, not to exceed September 30, 2021. The Department has concluded that it would not be in the public interest to end the Rehabilitation Short-Term Training-CAP grant while the new, enhanced CAP training program under the Innovative Rehabilitation Training priority related to CAP (CFDA number 84.263D) is being designed and ramped up during its first year. Doing so would reduce the Department's ability to provide ongoing training and technical assistance that CAP professionals need to fulfill their responsibilities under the Rehabilitation Act in the coming fiscal year (FY).

For this reason, the Department waives the requirements in 34 CFR 75.250, which prohibit project periods exceeding five years, and the requirements in 34 CFR 75.261(a) and (c)(2), which allow the extension of a project period only if the extension does not involve the obligation of additional Federal funds. The waiver would allow the Department to issue a one-time FY 2020 continuation award to the Rehabilitation Short-Term Training-CAP, as follows.

84.246K | Rehabilitation Short-Term Training-CAP | $200,000

Any activities carried out during the year of this continuation award must be consistent with the scope, goals, and objectives of the grantee's application as approved in the FY 2015 competition. The requirements for continuation awards are set forth in 34 CFR 75.253.

Waiver of Delayed Effective Date:

The Administrative Procedure Act requires that a substantive rule must be published at least 30 days before its effective date, except as otherwise provided for good cause (5 U.S.C. 553(d)(3)). A delayed effective date would be contrary to public interest by creating a gap in provision of training and technical assistance that CAP professionals need to effectively fulfill their responsibilities under the Rehabilitation Act. Therefore, the Secretary waives the delayed effective date provision for good cause.

Regulatory Flexibility Act Certification:

The Department certifies that the waiver and extension of the project period will not have a significant economic impact on a substantial number of small entities. The only entity that will be affected by the waiver and extension of the project period is the current Rehabilitation Short-Term Training-CAP grantee, because it would receive funding for an additional project period. Additionally, the extension of an existing budget period imposes minimal compliance costs, and the activities required to support the additional year of funding will not impose additional regulatory burdens or require unnecessary Federal supervision.

Paperwork Reduction Act of 1995:

This final waiver and extension of the project period does not contain any information collection requirements.

Intergovernmental Review:

This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To view in PDF, you must have Adobe Acrobat Reader, which is available free at the site.

You may also access documents of the Department published in the Federal Register by using the article search feature at www.federalregister.gov. Specifically, through the advanced search feature at this site, you can limit your search to documents published by the Department.

Mark Schultz,
Commissioner, Rehabilitation Services Administration, Delegated the authority to perform the functions and duties of the Assistant Secretary for the Office of Special Education and Rehabilitative Services.

[FR Doc. 2020-20510 Filed 9-14-20; 4:15 pm]

BILLING CODE 4000-01-P